DEPARTMENT OF COMMERCE

National Oceanic and Atmospheric Administration

[RTID 0648-XC865]

Endangered and Threatened Species; Take of Anadromous Fish

AGENCY: National Marine Fisheries Service (NMFS), National Oceanic and Atmospheric Administration (NOAA), Commerce.

ACTION: Notice of receipt; permit application for enhancement and monitoring purposes.

SUMMARY: We, NMFS, announce receipt of a permit application (15755-2M) to enhance the propagation and survival of species listed under the Endangered Species Act (ESA) of 1973, as amended, from the California Department of Fish and Wildlife (CDFW). Under permit application 15755-2M, CDFW is requesting to implement, for the next 8 years, hatchery and monitoring activities associated with the Fall Creek Hatchery coho salmon program. This Hatchery and Genetic Management Plan (HGMP) is an update to the 2014 HGMP developed for the coho salmon hatchery program at Iron Gate Hatchery that was submitted by CDFW and PacifiCorp (Permit 15755). Under permit application 15755-2M CDFW proposes to continue to collect Southern Oregon/Northern California Coast (SONCC) coho salmon for hatchery purposes. This notice advises the public that the permit application and associated HGMP are available for review and comment, prior to a determination by NMFS on the issuance of the permit.

DATES: Comments or requests for a public hearing on the application must be received at the appropriate address or fax number (see ADDRESSES) no later than 5 p.m. Pacific standard time on April 26, 2023.

ADDRESSES: Written comments on the application should be submitted to Jeff Abrams, Klamath Branch Fisheries Biologist, NMFS Northern California Office, 1655 Heindon Rd, Arcata, California 95521. Comments may also be submitted via fax (707) 825-4840, or by email to Jeff.Abrams@noaa.gov (include the permit number in the subject line of the fax or email). The permit application and attached HGMP may be viewed online at: https://apps.nmfs.noaa.gov/preview/preview_open_for_comment.cfm.

FOR FURTHER INFORMATION CONTACT: Jeff Abrams, Arcata, CA (ph.: (707) 825-5186; Fax: (707) 825-4840; email: Jeff.Abrams@noaa.gov).

SUPPLEMENTARY INFORMATION:

Species Covered in This Notice

The following ESA-listed species are covered in this notice:

Coho salmon (Oncorhynchus kisutch): threatened Southern Oregon/Northern.

California Coast (SONCC) Evolutionarily Significant Unit

Authority

Enhancement permits are issued in accordance with section 10(a)(1)(A) of the ESA (16 U.S.C. 1531 et seq.) and regulations governing listed fish and wildlife permits (50 CFR part 222). NMFS issues permits based on findings that such permits: (1) are applied for in good faith; (2) if granted and exercised, would not operate to the disadvantage of the listed species that are the subject of the permit; (3) are consistent with the purposes and policies of Section 2 of the ESA; (4) whether the permit would further a bona fide and necessary or desirable scientific purpose or enhance the propagation or survival of the endangered species, taking into account the benefits anticipated to be derived on behalf of the endangered species; and additional issuance criteria as listed at 50 CFR 222.308(c)(5-12). The authority to take listed species is subject to conditions set forth in the permit.

Anyone requesting a hearing on the application included in this notice should set out the specific reasons why a hearing on that application would be appropriate (see ADDRESSES). Such hearings are held at the discretion of NMFS Assistant Administrator for Fisheries.

Permit Application Received

Permit 15755-2M

The CDFW is applying for ESA Section 10(a)(1)(A) permit 15755-2M the for the Fall Creek Hatchery coho salmon HGMP for a period of 8 years following removal of the mainstem Klamath River dams in 2024. CDFW and PacifiCorp anticipated that the 2014 HGMP would cover hatchery operations until mainstem Klamath River dams of the Klamath Hydroelectric Project (Federal Energy Regulatory Commission Project Nos. 14803-001, 2082-063) were removed. Dam removal is expected to occur in 2024. By that time, the existing Iron Gate Hatchery will cease operations and a new hatchery will be constructed at Fall Creek upstream of the current hatchery facility. To ensure that hatchery operations continue without interruption in the year of dam removal, the Fall Creek Hatchery will be operational in the months prior to dam removal.

The HGMP covers activities related to the artificial production of coho salmon at Fall Creek Hatchery during the transition of the hatchery coho salmon program from Iron Gate Hatchery, and for 8 years after dam removal. NMFS will use the information in this HGMP to evaluate hatchery impacts on salmon listed under the ESA. Hatchery activities would be permitted pursuant to the final HGMP, which is attached to the permit application. Monitoring and in-river research activities, also included in the application, could result in take of SONCC coho salmon. The primary goal of an HGMP is to devise biologically based hatchery management strategies that ensure the conservation and recovery of salmon and steelhead species. Through implementation of this HGMP, and compliance with the ESA section 10(a)(1)(A) permit, the Fall Creek Hatchery coho salmon program will operate to conserve ESA listed SONCC coho salmon.

The Fall Creek Hatchery coho salmon program will culture coho salmon of the Upper Klamath Population Unit. This unit is part of the SONCC Evolutionarily Significant Unit that is listed as Threatened under ESA. The HGMP incorporates principles of hatchery operations developed by the Hatchery Scientific Review Groups of the Columbia River and California. The primary purpose of the Fall Creek Hatchery coho salmon program is to protect the genetic resources of the Upper Klamath Population Unit and reduce extinction risks prior to and eight years after the removal of the four Klamath River dams. The purpose would be achieved by integrating natural origin adults into broodstock and using a genetically based spawning matrix to reduce inbreeding. The natural origin fish required to integrate the Fall Creek Hatchery coho salmon program will be obtained from Bogus Creek, the Iron Gate Hatchery auxiliary fish ladder, Fall Creek (e.g., via seine or dip net), and fish volitionally entering the Fall Creek Hatchery as described in the broodstock collection document and the Terms and Conditions of NMFS' 2021 Biological Opinion for the Surrender and Decommissioning of the Lower Klamath Hydroelectric Project.

The secondary purpose of the Fall Creek Hatchery coho salmon program is to provide adult coho salmon that could disperse to newly accessible habitat (76 miles or about 122.31 km) made available following dam removal. The potential dispersal of adult coho salmon results from Fall Creek Hatchery origin coho salmon straying to other tributaries and by releasing surplus adult coho salmon back to the mainstem Klamath River near Fall Creek.

Public Comments Solicited

NMFS invites the public to comment on the permit application and associated HGMP during a 30-day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the application, associated documents, and comments submitted to determine whether the application meets the requirements of section 10(a)(1)(A) of the ESA and its implementing regulations. The final permit decisions will not be made until after the end of the 30-day public comment period and after NMFS has fully considered all relevant comments received. NMFS will publish notice of its final action in the Federal Register.

Dated: March 21, 2023.
Angela Somma,
Chief, Endangered Species Division, Office of Protected Resources, National Marine Fisheries Service.

[FR Doc. 2023-06279 Filed 3-24-23; 8:45 am]

BILLING CODE 3510-22-P